DEPARTMENT OF VETERANS AFFAIRS

[OMB Control No. 2900-0630]

Agency Information Collection Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before January 27, 2006.

FOR FURTHER INFORMATION OR A COPY OF THE SUBMISSION CONTACT: Denise McLamb, Records Management Service (005E3), Department of Veterans Affairs, 810 Vermont Avenue, NW., Washington, DC 20420, (202) 565-8374, FAX (202) 565-6590 or e-mail to: denise.mclamb@mail.va.gov. Please refer to “OMB Control No. 2900-0630.”

Send comments and recommendations concerning any aspect of the information collection to VA's OMB Desk Officer, OMB Human Resources and Housing Branch, New Executive Office Building, Room 10235, Washington, DC 20503, (202) 395-7316. Please refer to “OMB Control No. 2900-0630” in any correspondence.

SUPPLEMENTARY INFORMATION:

Title: Regulation on Application for Fisher Houses and Other Temporary Lodging, VA Form 10-0408.

OMB Control Number: 2900-0630.

Type of Review: Extension of a currently approved collection.

Abstract: VA provides temporary lodging to veterans receiving VA medical care or Compensation and Pension examinations and to family members or other persons accompanying the veteran. Claimants may apply for temporary lodging by letter, e-mail, facsimile, telephone, or in person at the VA healthcare facility of jurisdiction. VA Form 10-0408 is used to determine claimant's eligibility for temporary lodging.

An agency may not conduct or sponsor, and a person is not required to respond to a collection of information unless it displays a currently valid OMB control number. The Federal Register Notice with a 60-day comment period soliciting comments on this collection of information was published on October 3, 2005, at page 57649.

Affected Public: Individuals or Households.

Estimated Total Annual Burden: 83,333 hours.

Estimated Average Burden Per Respondent: 10 minutes.

Frequency of Response: Semi-Annual.

Estimated Number of Respondents: 250,000.

Estimated Total Number of Respondents: 500,000.

Dated: December 16, 2005.
By direction of the Secretary.
Denis McLamb,
Program Analyst, Records Management Service.

[FR Doc. E5-7877 Filed 12-27-05; 8:45 am]

BILLING CODE 8320-01-P